OFFICE OF THE UNITED STATES TRADE REPRESENTATIVE

[Docket Number USTR-2022-0008]

U.S.-Kenya Strategic Trade and Investment Partnership

AGENCY: Office of the United States Trade Representative.

ACTION: Notice and request for comments.

SUMMARY: On July 14, 2022, the United States and Kenya launched the United States-Kenya Strategic Trade and Investment Partnership (STIP). Under this initiative the two governments will pursue enhanced engagement leading to high standard commitments in a wide range of areas with a view to increasing investment; promoting sustainable and inclusive economic growth; benefiting workers, consumers, and businesses (including micro-, small-, and medium-sized enterprises (MSMEs)); and supporting African regional economic integration. As the two governments develop a roadmap for the initial issues under that engagement, the Office of the United States Trade Representative (USTR) is seeking public comments on matters relevant to specified trade areas, including U.S. interests and priorities, in order to develop objectives and positions for enhanced engagement and subsequent negotiation.

DATES: The deadline for the submission of written comments is September 16, 2022.

ADDRESSES: You should submit written comments through the Federal eRulemaking Portal: https://www.regulations.gov (Regulations.gov). Follow the instructions for submissions in parts II and III below.

FOR FURTHER INFORMATION CONTACT: For procedural questions concerning written comments, please contact Spencer Smith at Spencer.L.Smith2@ustr.eop.gov or (202) 395-2974 in advance of the deadline and before transmitting a comment. Direct all other questions to Bennett Harman, Deputy Assistant U.S. Trade Representative for Africa, at BHarman@ustr.eop.gov, or (202) 395-9612.

SUPPLEMENTARY INFORMATION:

I. Background

During a virtual meeting on July 14, 2022, the U.S. Trade Representative and Kenya's Ministry of Industrialization, Trade and Enterprise Development Cabinet Secretary, launched the STIP. They identified the following initial issues where the United States and Kenya will develop an ambitious roadmap for enhanced cooperation with the goal of negotiating high-standard commitments in order to achieve economically meaningful outcomes.

Agriculture. The United States and Kenya will consider measures to facilitate agricultural trade and enhance transparency and understanding of the application of science- and risk-based sanitary and phytosanitary (SPS) measures. Both governments share an interest in fostering sustainable agricultural practices, as well as creating an enabling environment for innovative agricultural technologies that would help achieve food security goals, increase farm productivity, and improve farmer livelihoods, while addressing climate change concerns.

Anti-corruption. The United States and Kenya share a commitment to prevent and combat bribery and other forms of corruption. They will share information on best practices to prevent and combat bribery and corruption and will explore negotiating specific commitments.

Digital Trade. The United States and Kenya share an interest in fostering consumer, business, and worker trust in the digital economy, ensuring access to information, promoting the development and use of resilient and secure digital infrastructure, promoting competition and the participation of MSMEs, and addressing discriminatory practices. They will discuss measures to support digital inclusion, including accessibility, and online consumer protection. Both countries also will monitor global discussions on emerging issues in digital trade that are of mutual interest.

Environment and Climate Change Action. The United States and Kenya share common values with respect to environmental protection, a commitment to conservation, pursuing measures to support climate change adaptation and mitigation, and the importance of sustainable use and management of each country's natural resources as they strengthen their trade and investment relations. They will engage on strengthening these efforts, including climate adaptation and mitigation practices. Both countries also will consider opportunities to strengthen their respective commitments in this area, including through cooperation.

Good Regulatory Practices. The United States and Kenya will explore negotiating high-level commitments on topics such as ensuring adequate time for public consultations on proposed regulations, posting proposed regulations for review by interested stakeholders, and basing regulatory decisions on best available information, science, and evidence, including undertaking risk analysis and regulatory impact assessment as appropriate. They also will explore negotiating provisions on services domestic regulation.

Micro-, Small- and Medium-Sized Enterprises. The United States and Kenya believe that the success of MSMEs, including women-owned enterprises, is a key element in promoting sustained economic growth. They will discuss approaches to integrate MSMEs into international trade, and will initiate periodic technical best practices exchanges and roundtables on MSMEs.

Promoting Workers' Rights and Protections. The United States and Kenya want to work together to advance and protect labor rights through enforcement of, and compliance with, labor laws, promotion of social dialogue, and cooperation in other areas of mutual interest on labor and employment priorities, including forced labor in global supply chains.

Supporting Participation of Women, Youth, and Others in Trade. The United States and Kenya are committed to promoting economic opportunities for women and youth and continue to examine how to develop and adopt trade policies that promote and facilitate the participation of women and youth in international trade and to promote good paying, high-quality jobs and sustainable livelihoods. Both countries will work to identify resources to support the economic empowerment and participation of women, youth, persons with disabilities, other vulnerable populations, and the African Diaspora in trade to promote equitable and inclusive development.

Standards Collaboration. The United States and Kenya will discuss the role of standards, conformity assessment procedures, and technical regulations that have a significant impact on trade, including opportunities to reduce impediments to trade due to differences in their respective systems. They intend to engage on and discuss in depth their respective processes for the preparation, adoption, and application of technical regulations, standards and conformity assessment procedures based on mutually agreed best practices.

Trade Facilitation and Customs Procedures. The United States and Kenya recognize the pandemic's impact on supply chains and the demonstrated benefits of streamlining border procedures and accelerating World Trade Organization (WTO) Trade Facilitation Agreement implementation for trade in goods during this challenging time. They will discuss opportunities to simplify procedures, especially those that allow new entrants to engage in trade. In this regard, both countries will consider various customs practices, transparency, and cooperation on customs enforcement to inform mutual understanding, including the Agreement between the Government of the United States and the Republic of Kenya Regarding Mutual Assistance between their Customs Administrations, signed in Washington, DC, on August 6, 2014. They also will explore other topics of engagement, including trusted trader benefits for demonstrated low-risk importers, particularly those that participate in their respective country's Authorized Economic Operator program.

The United States will build upon high-standard trade commitments and develop new approaches in trade policy to advance a broad set of worker-centered priorities and promote durable, broad-based economic growth for the United States and Kenya. At this time, the Administration is not seeking to address tariff barriers.

II. Public Comment

The Trade Policy Staff Committee (TPSC) invites interested parties to submit comments to assist USTR as it develops objectives and positions for enhanced engagement and subsequent negotiation of high standard commitments contemplated by the STIP. In particular, the TPSC invites interested parties to comment on issues that USTR should address in the STIP, including the following:

1. General negotiating objectives for the contemplated agreement.

2. Agriculture-related matters.

3. Anti-corruption-related matters.

4. Digital economy-related matters.

5. Environment- and climate change-related matters.

6. Transparency and good regulatory practice matters.

7. Matters of particular relevance to MSMEs.

8. Worker rights and protections-related matters.

9. Matters related to supporting the participation of women, youth, and others in trade.

10. Matters related to standards collaboration.

11. Customs and trade facilitation matters.

12. Other measures or practices that undermine fair market opportunities for U.S. workers, farmers, ranchers, and businesses.

USTR requests small businesses (generally defined by the Small Business Administration as firms with fewer than 500 employees) or organizations representing small business members that submit comments to self-identify as such, so that we may be aware of issues of particular interest to small businesses.

III. Submission Instructions

Persons submitting written comments must do so in English and must identify on the first page of the submission “Comments Regarding U.S.-Kenya Strategic Trade and Investment Partnership.”

The submission deadline is September 16, 2022. USTR strongly encourages commenters to make online submissions, using Regulations.gov. To submit comments via Regulations.gov, enter docket number USTR-2022-0008 on the home page and click `search.' The site will provide a search-results page listing all documents associated with this docket. Find a reference to this notice and click on the link entitled `comment'. For further information on using Regulations.gov, please consult the resources provided on the website by clicking on `FAQ' on the bottom of the home page.

Regulations.gov allows users to submit comments by filling in a `type comment' field, or by attaching a document using an `upload file' field. USTR prefers that you provide comments in an attached document. USTR prefers submissions in Microsoft Word (.doc) or Adobe Acrobat (.pdf). If you use an application other than those two, please indicate the name of the application in the `type comment' field.

Filers submitting comments that do not include any business confidential information (BCI) should name their file using the name of the person or entity submitting the comments. For any comments submitted electronically containing BCI, the file name of the business confidential version should begin with the characters `BCI.' Clearly mark any page containing BCI with `BUSINESS CONFIDENTIAL' on the top of that page. Filers of submissions containing BCI also must submit a public version of their comments that USTR will place in the docket for public inspection. The file name of the public version should begin with the character `P.' Follow the `BCI' and `P' with the name of the person or entity submitting the comments.

Please do not attach separate cover letters to electronic submissions; rather, include any information that might appear in a cover letter in the comments themselves. Similarly, to the extent possible, please include any exhibits, annexes, or other attachments in the same file as the submission itself, not as separate files.

As noted, USTR strongly urges that you file comments through Regulations.gov. You must make any alternative arrangements with Spencer Smith at Spencer.L.Smith2@ustr.eop.gov or (202) 395-2974 before transmitting a comment and in advance of the deadline.

USTR will post comments in the docket for public inspection, except properly designated BCI. You can view comments on the Regulations.gov by entering docket number USTR-2022-0008 in the search field on the home page. General information concerning USTR is available at https://www.ustr.gov.

William Shpiece,
Chair of the Trade Policy Staff Committee, Office of the United States Trade Representative.

[FR Doc. 2022-16798 Filed 8-4-22; 8:45 am]

BILLING CODE 3290-F2-P